DEPARTMENT OF ENERGY

Federal Energy Regulatory Commission

Combined Notice of Filings #1

Take notice that the Commission received the following electric rate filings:

Docket Numbers: ER10-1577-004.

Applicants: Dogwood Energy LLC.

Description: Notice of Change in Status of Dogwood Energy LLC.

Filed Date: 10/16/15.

Accession Number: 20151016-5491.

Comments Due: 5 p.m. ET 11/6/15.

Docket Numbers: ER15-2693-002.

Applicants: Baltimore Power Company LLC.

Description: Tariff Amendment: Amendment to 2 to be effective 10/30/2015.

Filed Date: 10/16/15.

Accession Number: 20151016-5414.

Comments Due: 5 p.m. ET 11/6/15.

Docket Numbers: ER16-99-000.

Applicants: Florida Power & Light Company.

Description: § 205(d) Rate Filing: FPL and Lee County Electric Cooperative, Inc. Revisions to NITSA No. 266 to be effective 1/1/2016.

Filed Date: 10/16/15.

Accession Number: 20151016-5374.

Comments Due: 5 p.m. ET 11/6/15.

Docket Numbers: ER16-100-000.

Applicants: Windom Transmission, LLC.

Description: § 205(d) Rate Filing: Windom Transmission and HyperGen Transmission and Interconnection Agreement to be effective 12/15/2015.

Filed Date: 10/16/15.

Accession Number: 20151016-5375.

Comments Due: 5 p.m. ET 11/6/15.

Docket Numbers: ER16-101-000.

Applicants: Windom Transmission, LLC.

Description: § 205(d) Rate Filing: Windom Transmission and JMC Wind Transmission and Interconnection Agreement to be effective 12/15/2015.

Filed Date: 10/16/15.

Accession Number: 20151016-5376.

Comments Due: 5 p.m. ET 11/6/15.

Docket Numbers: ER16-102-000.

Applicants: Windom Transmission, LLC.

Description: § 205(d) Rate Filing: Windom Transmission and LimiEnergy Transmission and Interconnection Agreement to be effective 12/15/2015.

Filed Date: 10/16/15.

Accession Number: 20151016-5378.

Comments Due: 5 p.m. ET 11/6/15.

Docket Numbers: ER16-103-000.

Applicants: Windom Transmission, LLC.

Description: § 205(d) Rate Filing: Windom Transmission and Maiden Winds Transmission and Interconnection Agreement to be effective 12/15/2015.

Filed Date: 10/16/15.

Accession Number: 20151016-5381.

Comments Due: 5 p.m. ET 11/6/15.

Docket Numbers: ER16-104-000.

Applicants: Windom Transmission, LLC.

Description: § 205(d) Rate Filing: Windom Transmission and MD&E Transmission and Interconnection Agreement to be effective 12/15/2015.

Filed Date: 10/16/15.

Accession Number: 20151016-5385.

Comments Due: 5 p.m. ET 11/6/15.

Docket Numbers: ER16-105-000.

Applicants: Windom Transmission, LLC.

Description: § 205(d) Rate Filing: Windom Transmission and Power Beyond Transmission and Interconnection Agreement to be effective 12/15/2015.

Filed Date: 10/16/15.

Accession Number: 20151016-5388.

Comments Due: 5 p.m. ET 11/6/15.

Docket Numbers: ER16-106-000.

Applicants: Windom Transmission, LLC.

Description: § 205(d) Rate Filing: Windom Transmission and Power Blades Transmission and Interconnection Agreement to be effective 12/15/2015.

Filed Date: 10/16/15.

Accession Number: 20151016-5390.

Comments Due: 5 p.m. ET 11/6/15.

Docket Numbers: ER16-107-000.

Applicants: Windom Transmission, LLC.

Description: § 205(d) Rate Filing: Windom Transmission and Stony Hills Transmission and Interconnection Agreement to be effective 12/15/2015.

Filed Date: 10/16/15.

Accession Number: 20151016-5396.

Comments Due: 5 p.m. ET 11/6/15.

Docket Numbers: ER16-108-000.

Applicants: Windom Transmission, LLC.

Description: § 205(d) Rate Filing: Windom Transmission and Tower of Power Transmission & Interconnection Agreement to be effective 12/15/2015.

Filed Date: 10/16/15.

Accession Number: 20151016-5403.

Comments Due: 5 p.m. ET 11/6/15.

Docket Numbers: ER16-109-000.

Applicants: Windom Transmission, LLC.

Description: § 205(d) Rate Filing: Windom Transmission and Whispering Wind Transmission & Interconnection Agreement to be effective 12/15/2015.

Filed Date: 10/16/15.

Accession Number: 20151016-5405.

Comments Due: 5 p.m. ET 11/6/15.

Docket Numbers: ER16-110-000.

Applicants: Windom Transmission, LLC.

Description: § 205(d) Rate Filing: Windom Transmission and White Caps Interconnection and Transmission Agreement to be effective 12/15/2015.

Filed Date: 10/16/15.

Accession Number: 20151016-5407.

Comments Due: 5 p.m. ET 11/6/15.

Docket Numbers: ER16-111-000.

Applicants: Puget Sound Energy, Inc.

Description: § 205(d) Rate Filing: Vantage Long Term P-T-P Service Agreement to be effective 10/1/2015.

Filed Date: 10/16/15.

Accession Number: 20151016-5452.

Comments Due: 5 p.m. ET 11/6/15.

Docket Numbers: ER16-112-000.

Applicants: Puget Sound Energy, Inc.

Description: Initial rate filing: Kittitas NITSA SA No. 796 and NOA SA No. 797 to be effective 9/1/2015.

Filed Date: 10/16/15.

Accession Number: 20151016-5460.

Comments Due: 5 p.m. ET 11/6/15.

Docket Numbers: ER16-113-000.

Applicants: PJM Interconnection, L.L.C.

Description: § 205(d) Rate Filing: First Revised Service Agreement No. 3990; Queue W1-130 (WMPA) to be effective 9/30/2015.

Filed Date: 10/19/15.

Accession Number: 20151019-5203.

Comments Due: 5 p.m. ET 11/9/15.

Docket Numbers: ER16-114-000.

Applicants: Midcontinent Independent System Operator, Inc., Ameren Illinois Company.

Description: § 205(d) Rate Filing: 2015-10-19_SA 1975 Ameren-Norris 4th Rev WDS Agreement to be effective 10/1/2015.

Filed Date: 10/19/15.

Accession Number: 20151019-5215.

Comments Due: 5 p.m. ET 11/9/15.

Docket Numbers: ER16-115-000.

Applicants: PJM Interconnection, L.L.C.

Description: § 205(d) Rate Filing: 3rd Quarter 2015 Update to OA/RAA Member Lists to be effective 9/30/2015.

Filed Date: 10/19/15.

Accession Number: 20151019-5243.

Comments Due: 5 p.m. ET 11/9/15.

Docket Numbers: ER16-116-000.

Applicants: ISO New England Inc., Eversource Energy Service Company.

Description: § 205(d) Rate Filing: Eversource Energy Service Company—Attachment F to be effective 4/16/2015.

Filed Date: 10/19/15.

Accession Number: 20151019-5244.

Comments Due: 5 p.m. ET 11/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2015.
Nathaniel J. Davis, Sr.,
Deputy Secretary.

[FR Doc. 2015-26959 Filed 10-22-15; 8:45 am]

BILLING CODE 6717-01-P